DEPARTMENT OF THE INTERIOR

Fish and Wildlife Service

50 CFR Part 17

[FWS-R1-ES-2011-N251; FXES11130100000C4-123-FF01E00000]

Endangered and Threatened Wildlife and Plants; 5-Year Status Reviews of 46 Species in Idaho, Oregon, Washington, Nevada, Montana, Hawaii, Guam, and the Northern Mariana Islands

AGENCY: Fish and Wildlife Service, Interior.

ACTION: Notice of initiation of reviews; request for information.

SUMMARY: We, the U.S. Fish and Wildlife Service, are initiating 5-year reviews for 46 species in Idaho, Oregon, Washington, Nevada, Montana, Hawaii, Guam, and the Northern Mariana Islands under the Endangered Species Act of 1973, as amended (Act). We request any new information on these species that may have a bearing on their classification as endangered or threatened. Based on the results of our 5-year reviews we will determine whether these species are properly classified under the Act.

DATES: To ensure consideration in our reviews, we are requesting submission of new information no later than May 7, 2012. However, we will continue to accept new information about any listed species at any time.

ADDRESSES: For the 44 species in Hawaii, Guam, and the Northern Mariana Islands (see Table 1 below), submit information to: Field Supervisor, Attention: 5-Year Review, U.S. Fish and Wildlife Service, Pacific Islands Fish and Wildlife Office, 300 Ala Moana Blvd., Room 3-122, Box 50088, Honolulu, HI 96850. Information can also be submitted by email to: pifwo-5yr-review@fws.gov.

For the Snake River physa snail and bull trout, submit information to: Branch Chief, Classification and Recovery, Attention: 5-Year Review, U.S. Fish and Wildlife Service, Idaho Fish and Wildlife Office, 1387 S. Vinnell Way, Room 368, Boise, ID 83709. Information can also be submitted by email to: fws1srbocomment@fws.gov.

FOR FURTHER INFORMATION CONTACT: Jess Newton, U.S. Fish and Wildlife Service, Pacific Islands Fish and Wildlife Office (see ADDRESSES), 808-792-9400 (for species in Hawaii, Guam, and the Northern Mariana Islands); or Susan Burch, U.S. Fish and Wildlife Service, Idaho Fish and Wildlife Office, 208-378-5243 (for Snake River physa snail and bull trout). Individuals who are hearing impaired or speech impaired may call the Federal Relay Service at (800) 877-8337 for TTY assistance.

SUPPLEMENTARY INFORMATION:

I. Why do we conduct 5-year reviews?

Under the Act (16 U.S.C. 1531 et seq.), we maintain Lists of Endangered and Threatened Wildlife and Plants (which we collectively refer to as the List) in the Code of Federal Regulations (CFR) at 50 CFR 17.11 (for animals) and 17.12 (for plants). Section 4(c)(2)(A) of the Act requires us to review each listed species' status at least once every 5 years. Then, under section 4(c)(2)(B), we determine whether to remove any species from the List (delist), to reclassify it from endangered to threatened, to reclassify it from threatened to endangered, or to conclude that the current listing is appropriate. Any change in Federal classification requires a separate rulemaking process.

We use the following definitions, from 50 CFR 424.02, in our analysis of classification status:

(A) Species includes any species or subspecies of fish, wildlife, or plant, and any distinct population segment of any species of vertebrate, that interbreeds when mature;

(B) Endangered species means any species that is in danger of extinction throughout all or a significant portion of its range; and

(C) Threatened species means any species that is likely to become an endangered species within the foreseeable future throughout all or a significant portion of its range.

Our regulations at 50 CFR 424.21 require that we publish a notice in the Federal Register announcing those species under active review.

II. What species are under review?

This notice announces our active review of the 46 species listed in Table 1.

Table 1—Species for Which We Are Initiating a Status Review to Determine if They Are Appropriately Listed Under the U.S. Endangered Species Act
Common name | Scientific name | Status | Where listed | Final listing rule
Animals
Akepa, Maui | Loxops coccineus ochraceus | Endangered | U.S.A. (HI) | 35 FR 16047; 10/13/1970.
Creeper, Molokai | Paroreomyza flammea | Endangered | U.S.A. (HI) | 35 FR 16047; 10/13/1970.
Crow, Mariana (=aga) | Corvus kubaryi | Endangered | Western Pacific Ocean—U.S.A. (Guam, Rota) | 49 FR 33885; 8/27/1984.
Duck, Laysan | Anas laysanensis | Endangered | U.S.A. (HI) | 32 FR 4001; 3/11/1967.
Finch, Laysan | Telespyza cantans | Endangered | U.S.A. (HI) | 32 FR 4001; 3/11/1967.
Fruit bat, Mariana | Pteropus mariannus mariannus | Threatened | Western Pacific Ocean—U.S.A. (GU, MP) | 70 FR 1190; 1/06/2005.
Honeycreeper, crested | Palmeria dolei | Endangered | U.S.A. (HI) | 32 FR 4001; 3/11/1967.
Kingfisher, Guam Micronesian | Halcyon cinnamomina cinnamomina | Endangered | Western Pacific Ocean—U.S.A. (Guam) | 49 FR 33885; 8/27/1984.
Parrotbill, Maui | Pseudonestor xanthophrys | Endangered | U.S.A. (HI) | 32 FR 4001; 3/11/1967.
Po`ouli | Melamprosops phaeosoma | Endangered | U.S.A. (HI) | 40 FR 44151; 9/25/1975.
Rail, Guam | Rallus owstoni | Endangered, Non-Essential Experimental Population | Western Pacific Ocean—U.S.A. (Guam, Rota) | 49 FR 33881; 8/27/1984.
Snail, Snake River physa | Physa natricina | Endangered | U.S.A. (ID) | 57 FR 59244; 12/14/1992.
Thrush, Molokai | Myadestes lanaiensis rutha | Endangered | U.S.A. (HI) | 35 FR 16047; 10/13/1970.
Trout, bull | Salvelinus confluentus | Threatened | U.S.A., coterminous (lower 48 states); occurs in ID, OR, WA, NV, and MT | 64 FR 58910; 11/01/1999.
White-eye, bridled | Zosterops conspicillatus conspicillatus | Endangered | Western Pacific Ocean—U.S.A. (Guam) | 49 FR 33885; 8/27/1984.
Plants
No common name | Abutilon eremitopetalum | Endangered | U.S.A. (HI) | 56 FR 47694; 9/20/1991.
Liliwai | Acaena exigua | Endangered | U.S.A. (HI) | 57 FR 20787; 5/15/1992.
Pua `ala | Brighamia rockii | Endangered | U.S.A. (HI) | 57 FR 46339; 10/8/1992.
Kamanomano | Cenchrus agrimonioides | Endangered | U.S.A. (HI) | 61 FR 53123; 10/10/1996.
Haha | Cyanea dunbarii | Endangered | U.S.A. (HI) | 61 FR 53137; 10/10/1996.
Haha | Cyanea hamatiflora ssp. hamatiflora | Endangered | U.S.A. (HI) | 64 FR 48323; 9/3/1999.
Haha | Cyanea lobata | Endangered | U.S.A. (HI) | 57 FR 20787; 5/15/1992.
Haha | Cyanea macrostegia ssp. gibsonii | Endangered | U.S.A. (HI) | 56 FR 47694; 9/20/1991.
Haha | Cyanea mceldowneyi | Endangered | U.S.A. (HI) | 57 FR 20787; 5/15/1992.
Haha | Cyanea procera | Endangered | U.S.A. (HI) | 57 FR 46339; 10/8/1992.
No common name | Diplazium molokaiense | Endangered | U.S.A. (HI) | 59 FR 49031; 9/26/1994.
Na`ena`e | Dubautia plantaginea ssp. humilis | Endangered | U.S.A. (HI) | 64 FR 48323; 9/3/1999.
Gardenia (=Na`u), Hawaiian | Gardenia brighamii | Endangered | U.S.A. (HI) | 50 FR 33731; 8/21/1985.
Kopa | Hedyotis schlechtendahliana var. remyi | Endangered | U.S.A. (HI) | 64 FR 48323; 9/3/1999.
Wawae`iole | Huperzia mannii | Endangered | U.S.A. (HI) | 57 FR 20787; 5/15/1992.
Kohe malama malama o kanaloa | Kanaloa kahoolawensis | Endangered | U.S.A. (HI) | 64 FR 48323; 9/3/1999.
Koki`o, Cooke's | Kokia cookei | Endangered | U.S.A. (HI) | 44 FR 62471; 10/30/1979.
Kamakahala | Labordia triflora | Endangered | U.S.A. (HI) | 64 FR 48323; 9/3/1999.
Nehe | Lipochaeta kamolensis | Endangered | U.S.A. (HI) | 57 FR 20787; 5/15/1992.
No common name | Lysimachia maxima | Endangered | U.S.A. (HI) | 61 FR 53137; 10/10/1996.
Alani | Melicope adscendens | Endangered | U.S.A. (HI) | 59 FR 62352; 12/5/1994.
Alani | Melicope knudsenii | Endangered | U.S.A. (HI) | 59 FR 9327; 2/25/1994.
Alani | Melicope mucronulata | Endangered | U.S.A. (HI) | 57 FR 20787; 5/15/1992.
No common name | Phyllostegia hispida | Endangered | U.S.A. (HI) | 73 FR 9078; 2/19/2008.
No common name | Platanthera holochila | Endangered | U.S.A. (HI) | 61 FR 53123; 10/10/1996.
Lo`ulu | Pritchardia munroi | Endangered | U.S.A. (HI) | 57 FR 46339; 10/8/1992.
No common name | Pteris lidgatei | Endangered | U.S.A. (HI) | 59 FR 49031; 9/26/1994.
Remya, Maui | Remya mauiensis | Endangered | U.S.A. (HI) | 56 FR 1453; 1/14/1991.
Naupaka, dwarf | Scaevola coriacea | Endangered | U.S.A. (HI) | 51 FR 17974; 5/16/1986.
No common name | Silene alexandri | Endangered | U.S.A. (HI) | 57 FR 46339; 10/8/1992.
No common name | Stenogyne bifida | Endangered | U.S.A. (HI) | 57 FR 46339; 10/8/1992.

III. What information do we consider in the review?

A 5-year review considers all new information available at the time of the review. In conducting these reviews, we consider the best scientific and commercial data that has become available since the listing determination or most recent status review, such as:

(A) Species biology including, but not limited to, population trends, distribution, abundance, demographics, and genetics;

(B) Habitat conditions including, but not limited to, amount, distribution, and suitability;

(C) Conservation measures that have been implemented that benefit the species;

(D) Threat status and trends (see five factors under heading “How Do We Determine Whether a Species is Endangered or Threatened?”); and

(E) Other new information, data, or corrections including, but not limited to, taxonomic or nomenclatural changes, identification of erroneous information contained in the List, and improved analytical methods.

IV. How do we determine whether a species is endangered or threatened?

Section 4(a)(1) of the Act requires that we determine whether a species is endangered or threatened based on one or more of the five following factors:

(A) The present or threatened destruction, modification, or curtailment of its habitat or range;

(B) Overutilization for commercial, recreational, scientific, or educational purposes;

(C) Disease or predation;

(D) The inadequacy of existing regulatory mechanisms; or

(E) Other natural or manmade factors affecting its continued existence.

Under section 4(b)(1) of the Act, we must base our assessment of these factors solely on the best scientific and commercial data available.

V. What could happen as a result of this review?

For each species under review, if we find new information that indicates a change in classification may be warranted, we may propose, through formal rulemaking, to:

(A) Reclassify the species from threatened to endangered (uplist);

(B) Reclassify the species from endangered to threatened (downlist); or

(C) Remove the species from the List (delist).

If we determine that a change in classification is not warranted, then no formal rulemaking is required; the species remains on the List under its current status.

VI. Request for New Information

To ensure that a 5-year review is complete and based on the best available scientific and commercial information, we request new information from all sources. See “What Information Do We Consider in Our Review?” for specific criteria. If you submit information, please support it with documentation such as maps, bibliographic references, methods used to gather and analyze the data, and/or copies of any pertinent publications, reports, or letters by knowledgeable sources.

If you wish to provide information for any species listed above, please submit your comments and materials to the appropriate contact in either the Idaho or Pacific Islands Fish and Wildlife Office (see ADDRESSES section).

VII. Public Availability of Comments

Before including your address, phone number, email address, or other personal identifying information in your comment, you should be aware that your entire comment—including your personal identifying information—may be made publicly available at any time. While you can ask us in your comment to withhold your personal identifying information from public review, we cannot guarantee that we will be able to do so.

Comments and materials received will be available for public inspection, by appointment, during normal business hours at the offices where the comments are submitted.

VIII. Completed and Active Reviews

A list of all completed and currently active 5-year reviews addressing species for which the Pacific Region of the Service has lead responsibility is available at: http://www.fws.gov/pacific/ecoservices/endangered/recovery/5year.html.

IX. Authority

This document is published under the authority of the Endangered Species Act of 1973, as amended (16 U.S.C. 1531 et seq.).

Dated: January 18, 2012.
Richard R. Hannan,
Acting Regional Director, Region 1 Fish and Wildlife Service.

[FR Doc. 2012-5335 Filed 3-5-12; 8:45 am]

BILLING CODE 4310-55-P